DEPARTMENT OF TRANSPORTATION

Federal Aviation Administration

14 CFR Part 77

[Docket No. FAA-2003-14972; Special Federal Aviation Regulation No. 98]

RIN 2120-AH83

Construction or Alteration in the Vicinity of the Private Residence of the President of the United States; Correction

AGENCY: Federal Aviation Administration (FAA), DOT.

ACTION: Interim final rule; correction.

SUMMARY: This document makes corrections to the docket number for the interim final rule published in the Federal Register on April 22, 2003 (68 FR 19730). That interim final rule required that notice be filed with the FAA for the construction or alteration of any object that exceeds 50 feet above ground level and is within the existing prohibited airspace surrounding the private residence of the President of the United States.

DATES: Effective April 22, 2003.

FOR FURTHER INFORMATION CONTACT: Sheri Edgett-Baron, 202-267-8783.

Correction

In interim final rule FR Doc. 03-9886, published on April 22, 2003 (68 FR 19730), make the following corrections:

1. On page 19730, in the first column, correct “Docket No. FAA-2003-14973” to read “Docket No. FAA-2003-14972;''

2. On page 19730, in the second column, in line 6 of the ADDRESSES paragraph, correct “docket number FAA-2003-14973” to read “docket number FAA-2003-14972”

3. On page 19730, in the third column, in line seven of the last paragraph of the “Comments Invited” paragraph, correct “Docket No. FAA-2003-14973” to read “Docket No. FAA-2003-14972.”

4. On page 19732, in the third column, in line six of Section 2. of SFAR No. 98, correct “31°43′45N'' to read “31°34′45N''.

5. On page 19733, in the first column, in line three of Section 3. of SFAR No. 98, correct “31°43′45N'' to read “31°34′45N''.

Issued in Washington, DC on April 29, 2003.
Donald P. Byrne,
Assistant Chief Counsel for Regulations.

[FR Doc. 03-11037 Filed 5-2-03; 8:45 am]

BILLING CODE 4910-13-P